DEPARTMENT OF HOUSING AND URBAN DEVELOPMENT

24 CFR Chapter IX

[Docket No. FR-5650-N-13]

Native American Housing Assistance and Self-Determination Act of 1996: Negotiated Rulemaking Committee Ninth Meeting

AGENCY: Office of Assistant Secretary for Public and Indian Housing, HUD.

ACTION: Notice of meeting of negotiated rulemaking committee.

SUMMARY: This notice announces the ninth meeting of the Indian Housing Block Grant (IHBG) negotiated rulemaking committee.

DATES: The ninth meeting is scheduled for Tuesday, September 20, 2016, and Wednesday, September 21, 2016. On each day, the session will begin at approximately 8:30 a.m., and adjourn at approximately 5:30 p.m.

ADDRESSES: The meeting is scheduled to take place at the Sheraton Midwest City Hotel at the Reed Conference Center, 5750 Will Rogers Rd, Midwest City, OK, 73110.

FOR FURTHER INFORMATION CONTACT: Heidi Frechette, Deputy Assistant Secretary for Native American Programs, Office of Public and Indian Housing, Department of Housing and Urban Development, 451 Seventh Street SW., Room 4126, Washington, DC 20410, telephone number 202-401-7914 (this is not a toll-free number). Hearing- or speech-impaired individuals may access this number via TTY by calling the toll-free Federal Relay Service at 1-800-877-8339.

SUPPLEMENTARY INFORMATION:

I. Background

The Native American Housing and Assistance and Self-Determination Act of 1996 (25 U.S.C. 4101 et seq.) (NAHASDA) changed the way that housing assistance is provided to Native Americans. NAHASDA eliminated several separate assistance programs and replaced them with a single block grant program, known as the Indian Housing Block Grant (IHBG) program. The regulations governing the IHBG formula allocation are codified in subpart D of part 1000 of HUD's regulations in title 24 of the Code of Federal Regulations. In accordance with section 106 of NAHASDA, HUD developed the regulations with active tribal participation using the procedures of the Negotiated Rulemaking Act of 1990 (5 U.S.C. 561-570).

Under the IHBG program, HUD makes assistance available to eligible Indian tribes for affordable housing activities. The amount of assistance made available to each Indian tribe is determined using a formula that was developed as part of the NAHASDA negotiated process. Based on the amount of funding appropriated for the IHBG program, HUD calculates the annual grant for each Indian tribe and provides this information to the Indian tribes. An Indian Housing Plan for the Indian tribe is then submitted to HUD. If the Indian Housing Plan is found to be in compliance with statutory and regulatory requirements, the grant is made.

On June 5, 2013, HUD announced in the Federal Register the list of proposed members for the negotiated rulemaking committee, and requested additional public comment on the proposed membership.

The first eight meetings of the negotiated rulemaking committee were held on the following dates:

• August 27, 2013, and August 28, 2013;

• Tuesday, September 17, 2013, Wednesday, September 18, 2013, and Thursday, September 19, 2013;

• Wednesday, April 23, 2014, Thursday, April 24, 2014, and Friday, April 25, 2014;

• Wednesday, June 11, 2014, Thursday, June 12, 2014, and Friday, June 13, 2014;

• Tuesday, July 29, 2014, Wednesday, July 30, 2014, and Thursday, July 31, 2014;

• Tuesday, August 26, 2014, Wednesday, August 27, 2014, and Thursday, August 28, 2014;

• Tuesday, August 11, 2015, Wednesday, August 12, 2015, and Thursday, August 13, 2015; and

• Tuesday, January 26, 2016, and Wednesday, January 27, 2016.

II. Ninth Committee Meeting

The ninth meeting will be held on Tuesday, September 20, 2016, and Wednesday, September 21, 2016. On each day, the session will begin at approximately 8:30 a.m., and adjourn at approximately 5:30 p.m. The meeting is scheduled to take place at the Sheraton Midwest City Hotel at the Reed Conference Center, 5750 Will Rogers Rd, Midwest City, OK, 73110.

The meetings will be open to the public without advance registration. Public attendance may be limited to the space available. Members of the public may make statements during the meetings, to the extent time permits, and file written statements with the committee for its consideration. Written statements should be submitted to the address listed in the FOR FURTHER INFORMATION CONTACT section of this document.

Dated: August 17, 2016.
Lourdes Castro Ramírez,
Principal Deputy Assistant Secretary for Public and Indian Housing.

[FR Doc. 2016-20115 Filed 8-22-16; 8:45 am]

BILLING CODE 4210-67-P